COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and a service to the Procurement List that will be furnished by nonprofit agencies employing persons who are blind or have other severe disabilities.

DATES: Effective Date: June 25, 2012.

ADDRESSES: Committee for Purchase From People Who Are Blind or Severely Disabled, Jefferson Plaza 2, Suite 10800, 1421 Jefferson Davis Highway, Arlington, Virginia, 22202-3259.

FOR FURTHER INFORMATION CONTACT: Patricia Briscoe, Telephone: (703) 603-7740, Fax: (703) 603-0655, or email CMTEFedReg@AbilityOne.gov.

SUPPLEMENTARY INFORMATION:

Additions

On March 16, 2012 (77 FR 15736) and March 23, 2012 (77 FR 17035), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

Product Name/NSN: Parts Kit, Soft Top Troop Area Enclosure, Humvee, Tan/2540-01-329-8073

NPA: Montgomery County Chapter, NYSARC, Inc., Amsterdam, NY.

Contracting Activity: Defense Logistics Agency Land and Maritime, Columbus, OH.

Coverage: C-List for 100% of the requirement of the Department of Defense, as aggregated by the Defense Logistics Agency Land and Maritime, Columbus, OH.

Product Names/NSNs:

Ice Melt/De-Icer, 10 lbs./6850-01-598-1946

Ice Melt/De-Icer, 20 lbs./6850-01-598-1926

Ice Melt/De-Icer, 40 lbs./6850-01-598-1933

NPA: Bosma Industries for the Blind, Inc., Indianapolis, IN.

Contracting Activity: Defense Logistics Agency Aviation, Richmond, VA.

Coverage: C-List for 100% of the requirement of the Department of Defense, as aggregated by the Defense Logistics Agency Aviation, Richmond, VA.

Service

Service Type/Locations: Facilities Maintenance Services, Defense Information Systems Agency, JITC, 2001 Brainard Rd., Building 57305, Fort Huachuca, AZ.

3341 Strauss Avenue, Building 900, Indian Head, MD.

4465 Indian Head Highway, Ely Building, Indian Head, MD.

6910 Cooper Avenue, Fort Meade, MD.

NPAs: Beacon Group SW., Inc., Tucson, AZ (Prime Contractor.

The Centers for Habilitation/TCH, Tempe, AZ (Subcontractor).

Didlake, Inc., Manassas, VA (Subcontractor).

Contracting Activity: defense information systems agency (DISA), DITCO-FT HUACHUCA PL65, Fort Huachuca, AZ.

Patricia Briscoe,
Deputy Director, Business Operations, (Pricing and Information Management).

[FR Doc. 2012-12756 Filed 5-24-12; 8:45 am]

BILLING CODE 6353-01-P